DEPARTMENT OF HOMELAND SECURITY

Coast Guard

[Docket No. USCG-2017-0851]

Imposition of Conditions of Entry for Certain Vessels Arriving to the United States From the Republic of Djibouti

AGENCY: Coast Guard, DHS.

ACTION: Notice.

SUMMARY: The Coast Guard announces that it will impose conditions of entry on vessels arriving from the Republic of Djibouti. Conditions of entry are intended to protect the United States from vessels arriving from countries that have been found to have deficient port anti-terrorism measures in place.

DATES: The policy announced in this notice will become effective May 30, 2019.

FOR FURTHER INFORMATION CONTACT: For information about this document call or email LCDR Zeke Lyons, International Port Security Program, United States Coast Guard, telephone 202-372-1296, Ezekiel.J.Lyons@uscg.mil

SUPPLEMENTARY INFORMATION:

Discussion

The authority for this notice is 5 U.S.C. 552(a) (“Administrative Procedure Act”), 46 U.S.C. 70110 (“Maritime Transportation Security Act”), and Department of Homeland Security Delegation No. 0170.1(II)(97.f). As delegated, section 70110(a) authorizes the Coast Guard to impose conditions of entry on vessels arriving in U.S. waters from ports that the Coast Guard has not found to maintain effective anti-terrorism measures.

On August 18, 2016 the Coast Guard found that ports in the Republic of Djibouti failed to maintain effective anti-terrorism measures and that the Republic of Djibouti's designated authority's oversight, access control, security monitoring, security training programs, and security plans drills and exercises are all deficient.

On February 6, 2017, as required by 46 U.S.C. 70109, the Republic of Djibouti was notified of this determination and given recommendations for improving antiterrorism measures and 90 days to respond. In May 2017 and September 2018, the Coast Guard revisited the Republic of Djibouti to review Djibouti's progess on correcting the security deficiencies. The Coast Guard determined that Djibouti failed to maintain effective anti-terrorism measures with the exeptions of two port facilities: The Doraleh Container Terminal and the Doraleh Oil Terminal (Horizon).

Accordingly, beginning May 30, 2019, the conditions of entry shown in Table 1 will apply to any vessel that visited a port in the Republic of Djibouti, with the exception of the Doraleh Container Terminal and the Doraleh Oil Terminal (Horizon), in its last five port calls.

Table 1—Conditions of Entry for Vessels Visiting Ports in the Republic of Djibouti
No. | Each vessel must:
1 | Implement measures per the vessel's security plan equivalent to Security Level 2 while in a port in the Republic of Djibouti. As defined in the ISPS Code and incorporated herein, “Security Level 2” refers to the “level for which appropriate additional protective security measures shall be maintained for a period of time as a result of heightened risk of a security incident.”
2 | Ensure that each access point to the vessel is guarded and that the guards have total visibility of the exterior (both landside and waterside) of the vessel while the vessel is in ports in the Republic of Djibouti.
3 | Guards may be provided by the vessel's crew; however, additional crewmembers should be placed on the vessel if necessary to ensure that limits on maximum hours of work are not exceeded and/or minimum hours of rest are met, or provided by outside security forces approved by the vessel's master and Company Security Officer. As defined in the ISPS Code and incorporated herein, “Company Security Officer” refers to the “person designated by the Company for ensuring that a ship security assessment is carried out; that a ship security plan is developed, submitted for approval, and thereafter implemented and maintained and for liaison with port facility security officers and the ship security officer.”
4 | Attempt to execute a Declaration of Security while in a port in the Republic of Djibouti.
5 | Log all security actions in the vessel's security records.
6 | Report actions taken to the cognizant Coast Guard Captain of the Port (COTP) prior to arrival into U.S. waters.
7 | In addition, based on the findings of the Coast Guard boarding or examination, the vessel may be required to ensure that each access point to the vessel is guarded by armed, private security guards and that they have total visibility of the exterior (both landside and waterside) of the vessel while in U.S. ports. The number and position of the guards has to be acceptable to the cognizant COTP prior to the vessel's arrival.

The following countries do not maintain effective anti-terrorism measures in their ports and are therefore subject to conditions of entry: Cambodia, Cameroon, Comoros, Côte d'Ivoire, Djibouti, Equatorial Guinea, The Gambia, Guinea-Bissau, Iran, Iraq, Liberia, Libya, Madagascar, Micronesia, Nauru, Nigeria, Sao Tome and Principe, Seychelles, Syria, Timor-Leste, Venezuela, and Yemen.

The current Port Security Advisory is available at: http://www.dco.uscg.mil/Our-Organization/Assistant-Commandant-for-Prevention-Policy-CG-5P/International-Domestic-Port-Assessment/.

Dated: May 7, 2019.
Daniel B. Abel,
Deputy Commandant for Operations, USCG.

[FR Doc. 2019-10153 Filed 5-15-19; 8:45 am]

BILLING CODE 9110-04-P